DEPARTMENT OF JUSTICE

Notice of Lodging of Consent Judgment Pursuant to Comprehensive Environmental Response, Compensation, and Liability Act

Notice is hereby given that on February 28, 2007, a proposed Consent Judgment in United States v. AGI-VR Wesson Co. et al., Civil Action No. CV-07-825, was lodged with the United States District Court for the Eastern District of New York.

The proposed Consent Judgment will settle the United States' claims on behalf of the U.S. Environmental Protection Agency (“EPA”) brought against defendants AGI-VR/Wesson Co., Alloy Carbide Company, Chi Mei Corporation, Climax Molybdenum Company, Climax Molybdenum Marketing Corporation, County of Nassau, New York, Cyprus Amax Minerals Company, General Electric Company, GTE Corporation, H.C. Starck, Inc., Kennametal Inc., M&R Industries, Inc., Minmetals Inc., Osram Sylvania Inc., Philips Electronics North America Corporation, Sandvik, AB, TDY Holding, LLC; and TDY Industries, Inc., (along with Adamas Carbide Corporation and Kulite Tungsten Corp.) pursuant to Sections 106 and 107 of the Comprehensive Environmental Response, Compensation, and Liability Act (“CERCLA”), 42 U.S.C. 9606 and 9607, with respect to the Li Tungsten Superfund Site in Glen Cove, New York.

Pursuant to the Consent Judgment, a total of $5.11 million will be paid by settling defendants. Of this amount, $1.5 million will be denominated as a civil penalty for failure to comply with an administrative order. In addition, TDY will perform the remaining work at the Site (other than that which EPA has reserved to perform itself), which is estimated by EPA at $10.7 million. The Consent Decree also resolves claims against four agencies of the United States, the Department of Commerce, the Department of Defense, the Department of the Treasury, and the General Services Administration (“Settling Federal Agencies”). Pursuant to the Consent Judgment, the Settling Federal Agencies shall pay $25 million to EPA and $1 million to TDY, and also receive contribution protection.

The Department of Justice will receive for a period of thirty (30) days from the date of this publication comments relating to the proposed Consent Judgment. Comments should be addressed to the Assistant Attorney General, Environment and Natural Resources Division, and either e-mailed to pubcomment-ees.enrd@usdoj.gov or mailed to P.O. Box 7611, U.S. Department of Justice, Washington, DC 20044-7611, and should refer to United States v. AGI-VR Wesson Co., et al., Civil Action No. CV-07-835, D.J. Ref. 90-11-3-09093.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgment may also be examined on the following Department of Justice Web site, http://www.usdoj.gov/enrd/Consent_Decress.html. A copy of the proposed Consent Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy by mail from the Consent Decree Library, please enclose a check in the amount of $208.00 ($0.25 per page reproduction cost) payable to the United States Treasury or, if requesting by e-mail or fax, forward the check in that amount to the Consent Decree Library at the stated address. If requesting a copy exclusive of exhibits, please enclose a check in the amount of $32.25 ($0.25 per page reproduction cost) payable to the United States Treasury.

Ronald Gluck,
Assistant Chief, Environmental Enforcement Section, Environment and Natural Resources Division.

[FR Doc. 07-1070 Filed 3-7-07; 8:45 am]

BILLING CODE 4140-15-M